NUCLEAR REGULATORY COMMISSION

[NRC-2019-0124]

Report to Congress on Abnormal Occurrences; Fiscal Year 2018 Dissemination of Information

AGENCY: Nuclear Regulatory Commission.

ACTION: NUREG; issuance.

SUMMARY: The U.S. Nuclear Regulatory Commission (NRC) is issuing NUREG-0090, Volume 41, “Report to Congress on Abnormal Occurrences: Fiscal Year 2018.” The report describes those events that the NRC or an Agreement State identified as abnormal occurrences (AOs) during fiscal year (FY) 2018, based on the criteria defined in the report. The report describes eight events at Agreement State-licensed facilities and three events at an NRC-licensed facilities.

DATES: NUREG-0090, Volume 41, is available June 13, 2019.

ADDRESSES: Please refer to Docket ID NRC-2019-0124 when contacting the NRC about the availability of information regarding this document. You may obtain publicly-available information related to this document using any of the following methods:

• Federal Rulemaking Website: Go to http://www.regulations.gov and search for Docket ID NRC-2019-0124. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Vered Shaffer, Office of Nuclear Regulatory Research, U.S. Nuclear Regulatory Commission, Washington, DC 20555-0001; telephone: 630-829-9862, email: Vered.Shaffer@nrc.gov.

SUPPLEMENTARY INFORMATION:

I. Discussion

Section 208 of the Energy Reorganization Act of 1974, as amended (Pub. L. 93-438), defines an “abnormal occurrence” (AO) as an unscheduled incident or event that the NRC determines to be significant from the standpoint of public health or safety. The AO report, NUREG-0090, Volume 41, “Report to Congress on Abnormal Occurrences: Fiscal Year 2018” (ADAMS Accession No. ML19157A308), describes those events that the NRC identified as AOs during FY 2018, based on the criteria defined in Appendix A of the report.

The report describes three events involving NRC licensees that the agency identified as AOs in fiscal year (FY) 2018 based on the criteria defined in Appendix A, “Abnormal Occurrence Criteria and Guidelines for Other Events of Interest,” to the report. Two AOs were medical events as defined in title 10 of the Code of Federal Regulations (10 CFR) part 35, “Medical Use of Byproduct Material.” The third AO event involved a category 2 source, as defined in 10 CFR part 37, “Physical Protection of Category 1 and Category 2 Quantities of Radioactive Material.” During this reporting period, the NRC did not identify any events at commercial nuclear power plants in the United States as AOs. The report also describes eight AOs that occurred in Agreement States (AS) and that were identified as AOs during FY 2018 based on the criteria defined in Appendix A. Seven were medical events, as defined in 10 CFR part 35, and one event involved radiography operations. Of the 11 AOs discussed in the report, one occurred in FY 2017 but is included in this report because the NRC completed its evaluation of the event during FY 2018 once relevant information became available.

Agreement States are the 38 U.S. States that currently have entered into formal agreements with the NRC pursuant to Section 274 of the Atomic Energy Act of 1954, as amended (AEA), to regulate certain quantities of AEA-licensed material at facilities located within their borders.

The Federal Reports Elimination and Sunset Act of 1995 (Pub. L. 104-68) requires that AOs be reported to Congress annually. The full report, NUREG-0090, Volume 41, “Report to Congress on Abnormal Occurrences: Fiscal Year 2018,” is also available electronically at the NRC's website at http://www.nrc.gov/reading-rm/doc-collections/nuregs/staff/.

Dated at Rockville, Maryland, on June 10, 2019.
For the Nuclear Regulatory Commission.
Annette L. Vietti-Cook,
Secretary of the Commission.

[FR Doc. 2019-12494 Filed 6-12-19; 8:45 am]

BILLING CODE 7590-01-P